INTERNATIONAL TRADE COMMISSION

[USITC SE-03-033]

Sunshine Act Meeting

Agency Holding the Meeting: International Trade Commission.

Time and Date: October 24, 2003 at 11 a.m.

Place: Room 101, 500 E Street SW., Washington, DC 20436, Telephone: (202) 205-2000.

Status: Open to the public.

Matters to be Considered: 1. Agenda for future meetings: None.

2. Minutes.

3. Ratification List.

4. Inv. Nos. 731-TA-1054-1055 (Preliminary) (Light-Walled Rectangular Pipe and Tube from Mexico and Turkey)—briefing and vote. (The Commission is currently scheduled to transmit its determination to the Secretary of Commerce on October 24, 2003; Commissioners' opinions are currently scheduled to be transmitted to the Secretary of Commerce on or before October 31, 2003.)

5. Outstanding action jackets: None.

In accordance with Commission policy, subject matter listed above, not disposed of at the scheduled meeting, may be carried over to the agenda of the following meeting.

Issued: October 15, 2003.
By order of the Commission.
Marilyn R. Abbott,
Secretary to the Commission.

[FR Doc. 03-26393 Filed 10-15-03; 12:36 pm]

BILLING CODE 7020-02-P